DEPARTMENT OF EDUCATION

Applications for New Awards; Investing in Innovation Fund, Scale-Up Grants

Correction

In notice document 2012-7362 appearing on pages 18216-18229 in the issue of Tuesday, March 27, 2012 make the following corrections:

1. On page 18225, in the second column, in the second bulleted paragraph, in the sixth line “4:30 p.m.” should read “4:30:00 p.m.”.

2. On the same page, in the same column, in the same paragraph, in the twelfth line “4:30 p.m.” should read “4:30:00 p.m.”.

3. On the same page, in the same column, in the same paragraph, in the twenty-first line “4:30 p.m.” should read “4:30:00 p.m.”.

4. On the same page, in the third column, in the third line from the bottom “4:30 p.m.” should read “4:30:00 p.m.”.

5. On page 18226, in the first column, in the first full paragraph, in the first line “4:30 p.m.” should read “4:30:00 p.m.”.

6. On the same page, in the same column, in the same paragraph, in the fifteenth line “4:30 p.m.” should read “4:30:00 p.m.”.

7. On the same page, in the second column, in the first and second lines from the bottom “8 a.m. and 4:30 p.m.” should read “8:00 a.m. and 4:30:00 p.m.”.

[FR Doc. C1-2012-7362 Filed 4-26-12; 8:45 am]

BILLING CODE 1505-01-D